DEPARTMENT OF THE TREASURY

Bureau of the Fiscal Service

Proposed Collection of Information: Schedule of Excess Risks

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning the Schedule of Excess Risks.

DATES: Written comments should be received on or before September 16, 2024 to be assured of consideration.

ADDRESSES: Direct all written comments and requests for additional information to Bureau of the Fiscal Service, Bruce A. Sharp, Room #4006-A, PO Box 1328, Parkersburg, WV 26106-1328, or bruce.sharp@fiscal.treasury.gov.

SUPPLEMENTARY INFORMATION:

Title: Schedule of Excess Risks.

OMB Number: 1530-0062.

Form Number: FS Form 285-A.

Abstract: This information is collected from insurance companies to assist the Treasury Department in determining whether a certified or applicant company is solvent and able to carry out its contracts, and whether the company complies with Treasury excess risk regulations for writing Federal surety bonds.

Current Actions: Revision of a currently approved collection.

Type of Review: Existing Collection in use without OMB Control Number.

Affected Public: Extension of a currently approved collection.

Estimated Number of Respondents: 1,072 total.

Estimated Time per Respondent: New Applicants—20 hours; Renewals—5 hours.

Estimated Total Annual Burden Hours: 5,660.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: July 15, 2024.
Bruce A. Sharp,
Bureau PRA Clearance Officer.

[FR Doc. 2024-15818 Filed 7-17-24; 8:45 am]

BILLING CODE 4810-AS-P